FEDERAL DEPOSIT INSURANCE CORPORATION

Sunshine Act; Notice of a Matter To Be Deferred From the Agenda for Consideration at an Agency Meeting

Pursuant to the provisions of the “Government in the Sunshine Act” (5 U.S.C. 552b), notice is hereby given that the following matter will be deferred from the “Discussion Agenda” at the open meeting of the Board of Directors of the Federal Deposit Insurance Corporation scheduled to be held at 10 a.m. on Tuesday, April 13, 2010, in the Board Room on the sixth floor of the FDIC Building located at 550—17th Street, NW., Washington, DC:

Memorandum re: Notice of Proposed Rulemaking—Large Insured Depository Institutions Reporting and Planning.

Requests for further information concerning the meeting may be directed to Mr. Robert E. Feldman, Executive Secretary of the Corporation, at (202) 898-7043.

Dated: April 9, 2010.
Robert E. Feldman,
Executive Secretary, Federal Deposit Insurance Corporation.

[FR Doc. 2010-8486 Filed 4-9-10; 4:15 pm]

BILLING CODE 6714-01-P